DEPARTMENT OF HEALTH AND HUMAN SERVICES

National Toxicology Program (NTP); Office of Liaison, Policy and Review; Meeting of the NTP Board of Scientific Counselors: Amended Notice

AGENCY: National Institute of Environmental Health Sciences (NIEHS), National Institutes of Health, HHS.

ACTION: Extension of public comment period.

SUMMARY: The NTP announces an amended date for submission of written public comments for the November 30-December 1, 2010 meeting of the NTP Board of Scientific Counselors (BSC). Information regarding the BSC meeting was published on October 19, 2010, in the Federal Register (75 FR 201) and is available on the BSC meeting page (http://ntp.niehs.nih.gov/go/165). The guidelines and deadlines published in this Federal Register notice still apply, except that the deadline for submission of written comments is extended to November 16, 2010.

DATES: The BSC meeting will be held on November 30-December 1, 2010. The deadline for submission of written comments and for pre-registration to attend the meeting, including registering to present oral comments, is November 16, 2010.

ADDRESSES: The BSC meeting will be held in the Rodbell Auditorium, Rall Building at the NIEHS, 111 T.W. Alexander Drive, Research Triangle Park, NC 27709. Public comments on all agenda topics and any other correspondence should be submitted to Dr. Lori White, Designated Federal Officer for the BSC, NTP Office of Liaison, Policy and Review, NIEHS, P.O. Box 12233, K2-03, Research Triangle Park, NC 27709; telephone: 919-541-9834; fax: 919-541-0295; whiteld@niehs.nih.gov. Courier address: NIEHS, 530 Davis Drive, Room K2136, Morrisville, NC 27560.

FOR FURTHER INFORMATION CONTACT: Dr. Lori D. White (telephone: 919-541-9834 or whiteld@niehs.nih.gov).

Dated: October 21, 2010.
John R. Bucher,
Associate Director, National Toxicology Program.

[FR Doc. 2010-27424 Filed 10-28-10; 8:45 am]

BILLING CODE 4140-01-P